DEPARTMENT OF DEFENSE

Office of the Secretary

[Docket ID: DoD-2021-OS-0091]

Submission for OMB Review; Comment Request

AGENCY: The Under Secretary of Defense for Acquisition and Sustainment (USD(A&S)), Department of Defense (DoD).

ACTION: 30-Day information collection notice.

SUMMARY: The Department of Defense has submitted to OMB for clearance the following proposal for collection of information under the provisions of the Paperwork Reduction Act.

DATES: Consideration will be given to all comments received by February 23, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Defense Materiel Disposition Procedures for the Sale of DoD Materiel; DLA Form 2536, DLA Form 2537; OMB Control Number 0704-0534.

Type of Request: Revision.

Number of Respondents: 72.

Responses per Respondent: 2.

Annual Responses: 144.

Average Burden per Response: 82.5 minutes.

Annual Burden Hours: 198.

Needs and Uses: This collection is necessary for the DoD and its representatives to assess the ability of prospective purchasers to comply with applicable laws and regulations before the sale of materiel. Defense Logistics Agency (DLA) Form 2536, “Statement of Intent,” is used to identify the nature of the purchaser's business, where the materials will be stored, and what the buyer's intentions are with the materiel (i.e., use the materiel as intended, re-sell to others, scrap the materiel for recovery of contents, or re-refine or re-process the materiel). This form is used to determine if DLA Form 2537, “Pre-Award/Post-Award On-Site Survey HM/HW Recycler/Processor/Manufacturer,” will also be needed; DLA Form 2537 allows DoD components to determine if the purchaser is capable of meeting environmental and hazardous material handling responsibilities, in compliance with Part 102 of Title 41 CFR. Compliance with this regulation must be ascertained before DoD components may make an award of hazardous and dangerous property.

Affected Public: Business or other for-profit.

Frequency: On occasion.

Respondent's Obligation: Voluntary.

OMB Desk Officer: Ms. Jasmeet Seehra.

You may also submit comments and recommendations, identified by Docket ID number and title, by the following method:

• Federal eRulemaking Portal: https://www.regulations.gov. Follow the instructions for submitting comments.

Instructions: All submissions received must include the agency name, Docket ID number, and title for this Federal Register document. The general policy for comments and other submissions from members of the public is to make these submissions available for public viewing on the internet at https://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: January 19, 2022.
Aaron T. Siegel,
Alternate OSD Federal Register Liaison Officer, Department of Defense.

[FR Doc. 2022-01272 Filed 1-21-22; 8:45 am]

BILLING CODE 5001-06-P